DEPARTMENT OF DEFENSE

Department of the Navy

Notice of Availability for Donation of the Patrol Combatant ex-CANON (PG 90)

AGENCY: Department of the Navy, DOD.

ACTION: Notice.

SUMMARY: The Department of the Navy hereby gives notice of the availability for donation, under the authority of 10 U.S.C. section 7306, of the patrol combatant ex-CANON (PG 90) located at the NAVSEA Inactive Ships On-Site Maintenance Office (NISMO), Philadelphia, PA. Eligible recipients include: (1) Any state, commonwealth, or possession of the United States or any municipal corporation or political subdivision thereof; (2) the District of Columbia; or (3) any organization incorporated as a non-profit entity under section 501 of the Internal Revenue Code. The transfer of a ship for donation under 10 U.S.C 7306 shall be made at no cost to the United States Government. The donee will be required to maintain the ship as a static museum/memorial in a condition that is satisfactory to the Secretary of the Navy. Prospective donees must submit a comprehensive application that addresses the significant financial, technical, environmental and curatorial responsibilities associated with donated Navy ships. Further application information can be found on the Navy Ship Donation Program website at www.navsea.navy.mil/ndp.

Other ships that are currently available for donation include:

—Destroyer ex-CONOLLY (DD 979), Philadelphia, PA.

—Cruiser ex-STERETT (CG 31), Benecia, CA.

—Guided Missile Frigate ex-OLIVER HAZARD PERRY (FFG 7), Philadelphia, PA.

—Heavy Cruiser ex-DES MOINES (CA 134), Philadelphia, PA.

—Destroyer ex-FORREST SHERMAN (DD 931), Philadelphia, PA

FOR FURTHER INFORMATION CONTACT: Commander, Naval Sea Systems Command, ATTN: Ms. Gloria Carvalho (PMS 333G), 1333 Isaac Hull Ave SE Stop 2701, Washington Navy Yard, DC 20376-2701, telephone number (202) 781-0485.

Dated: August 1, 2002.
R. E. Vincent II,
Lieutenant Commander, Judge Advocate General's Corps, , U.S. Navy, Federal Register Liaison Officer.

[FR Doc. 02-20423 Filed 8-12-02; 8:45 am]

BILLING CODE 3810-FF-U